DEPARTMENT OF HEALTH AND HUMAN SERVICES

National Institutes of Health

Statement of Delegation of Authority

Notice is hereby given that I have delegated to the Director, National Institutes of Health (NIH), the authority vested in the Secretary of Health and Human Services under the Dr. Emmanuel Bilirakis and Honorable Jennifer Wexton National Plan to End Parkinson's Act (Pub. L. 118-66) (Act). The Act amends Title III of the Public Health Service Act by adding section 399OO, 42 U.S.C. 280n. The Act directs the Secretary to carry out a national project to prevent, diagnose, treat, and cure Parkinson's, to be known as the National Parkinson's Project, including a requirement to establish and maintain an Advisory Council on Parkinson's Research, Care, and Services and to create, maintain, and periodically update a national plan to prevent, diagnose, treat, and cure Parkinson's, ameliorate symptoms, and slow or stop progression.

This authority may be redelegated. Exercise of this authority shall be in accordance with established policies, procedures, guidelines, and regulations as prescribed by the Secretary. The Secretary retains the authority to submit reports to Congress, promulgate regulations, and appoint members to the Advisory Council on Parkinson's Research, Care, and Services. This Advisory Council will be co-chaired by the National Institutes of Health and the Office of the Assistant Secretary for Health. This delegation is effective immediately.

Dated: January 6, 2025.
Xavier Becerra,
Secretary.

[FR Doc. 2025-00432 Filed 1-7-25; 11:15 am]

BILLING CODE 4140-01-P